DEPARTMENT OF TRANSPORTATION

Federal Aviation Administration

14 CFR Part 39

[Docket No. FAA-2011-0382; Directorate Identifier 2010-NM-063-AD]

RIN 2120-AA64

Airworthiness Directives; The Boeing Company Model 757 Airplanes, and Model 767-200, 767-300, and 767-300F Series Airplanes

AGENCY: Federal Aviation Administration (FAA), DOT.

ACTION: Notice of proposed rulemaking (NPRM).

SUMMARY: We propose to supersede an existing airworthiness directive (AD) that applies to the products listed above. The existing AD currently requires revising the Limitations section of the airplane flight manual (AFM) to advise the flight crew of procedures to follow to ensure that a fuel filter impending bypass condition due to gross fuel contamination is detected in a timely manner. Since we issued that AD, a new design change has been developed that will correct an error in the operating program software (OPS) of the engine indication and crew alerting system (EICAS). This proposed AD would require installing new OPS (Version 7) of the EICAS in the EICAS computers. This proposed AD would also require various concurrent actions, depending on the airplane configuration, including installing a certain EICAS OPS version, making wiring changes, replacing the audio accessory unit, replacing certain handsets and EICAS computers, changing EICAS computer connector keying, and loading Operational Program Configuration (OPC) software. This proposed AD also retains the existing AD provision that relieves certain airplanes (those equipped with certain EICAS OPS versions) from the proposed requirements. Accomplishment of the new proposed actions would terminate the requirements of the existing AD. We are proposing this AD to prevent malfunction and thrust loss on both engines, which could result in a forced off-airport landing.

DATES: We must receive comments on this proposed AD by June 6, 2011.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: Deliver to Mail address above between 9 a.m. and 5 p.m., Monday through Friday, except Federal holidays.

For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. You may review copies of the referenced service information at the FAA, Transport Airplane Directorate, 1601 Lind Avenue, SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Christopher Shams, Aerospace Engineer, Propulsion Branch, ANM-140S, FAA, Seattle Aircraft Certification Office (ACO), 1601 Lind Avenue, SW., Renton, Washington 98057-3356; telephone 425-917-6753; fax 425-917-6590; e-mail: christopher.shams@faa.gov.

SUPPLEMENTARY INFORMATION:

Comments Invited

We invite you to send any written relevant data, views, or arguments about this proposed AD. Send your comments to an address listed under the ADDRESSES section. Include “Docket No. FAA-2011-0382; Directorate Identifier 2010-NM-063-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On April 14, 2008, we issued AD 2008-09-07, Amendment 39-15488 (73 FR 21811, April 23, 2008), for all Boeing Model 757 airplanes and Model 767-200, 767-300, and 767-300F series airplanes. That AD requires revising the Limitations section of the airplane flight manual (AFM) to advise the flight crew of procedures to follow to ensure that a fuel filter impending bypass condition due to gross fuel contamination is detected in a timely manner. That AD was prompted by an error in Version 6 of the operating program software (OPS) of the engine indication and crew alerting system (EICAS). The error prevents the display of an advisory message to the flight crew of a left engine fuel filter contamination and imminent bypass condition, which may indicate an imminent multiple engine thrust loss or engine malfunction event due to fuel contamination. We issued that AD to prevent malfunction and thrust loss on both engines, which could result in a forced off-airport landing.

Actions Since Existing AD Was Issued

AD 2008-09-07 requires interim crew actions, via AFM limitations, to mitigate the unsafe condition introduced by Version 6 of the OPS. Since we issued that AD, Boeing has developed OPS Version 7, which corrects an error in the OPS of the EICAS and will allow removal of the required AFM limitations.

Relevant Service Information

We have reviewed Boeing Special Attention Service Bulletins 757-31-0192 (for Model 757 airplanes) and 767-31-0267 (for Model 767-200, -300, -300F series airplanes), both dated September 11, 2009. The service bulletins describe procedures for installing new EICAS OPS in the left and right EICAS computers.

Service Bulletin 757-31-0192 specifies the concurrent accomplishment of the actions specified in Boeing Service Bulletins 757-31-0104 (for Model 757-200 series airplanes) and 757-31-0105 (for Model 757-300 series airplanes), both dated December 5, 2002, which describe procedures for changing the EICAS OPS.

Service Bulletin 767-31-0267 specifies the concurrent accomplishment of the actions specified in the service bulletins identified in the following table.

Service Bulletins Concurrent With Boeing Special Attention Service Bulletin 767-31-0267
Procedures | Service Bulletin | Affected airplanes
Changing wires from the audio accessory unit (AAU) on the E2-5 shelf to the bell chime module in the warning electronics unit (WEU) (P51) | Boeing Service Bulletin 767-23-0159, Revision 2, dated January 11, 2007 | Model 767-200 and -300 series airplanes.
Replacing the AAU | Boeing Special Attention Service Bulletin 767-23-0160, dated May 31, 2001 | Model 767-300 series airplanes.
| Boeing Service Bulletin 767-23-0167, dated February 28, 2002 | Model 767-300 series airplanes.
Replacing the pilots' handset on the P8 panel, replacing 5 attendant handsets, and replacing the AAU on the E2-5 shelf in the main equipment center, as applicable | Boeing Service Bulletin 767-23-0164, dated May 31, 2001 | Model 767-200 and 767-300 series airplanes.
Replacing the left and right EICAS computers in the E8 rack, making wire changes in the E8 shelf, changing the left and right EICAS computer connector keying on the E8 shelf, loading OPC software into both left and right EICAS computers | Boeing Service Bulletin 767-31-0091, Revision 4, dated July 7, 2005 | Model 767-200, 767-300, and 767-300F series airplanes.
| Boeing Service Bulletin 767-31-0098, Revision 2, including Appendices A, B, and C, dated October 21, 1999 | Model 767-200 and 767-300 series airplanes.
| Boeing Service Bulletin 767-31-0099, Revision 3, including Appendices A, B, and C, dated February 8, 2001 | Model 767-300 series airplanes.
| Boeing Service Bulletin 767-31-0100, Revision 2, including Appendices A, B, and C, dated July 29, 1999 | Model 767-200 and 767-300 series airplanes.
| Boeing Service Bulletin 767-31-0101, including Appendices A, B, and C, dated July 6, 2000 | Model 767-200 and 767-300 series airplanes.
Installing new EICAS OPS and EICAS OPC software, as applicable | Boeing Service Bulletin 767-31-0114, Revision 1, dated June 8, 2000 | Model 767-200, 767-300, and 767-300F series airplanes.

FAA's Determination

We are proposing this AD because we evaluated all the relevant information and determined the unsafe condition described previously is likely to exist or develop in other products of these same type designs.

Proposed AD Requirements

This proposed AD would continue to require the AFM limitations specified in AD 2008-09-07. This proposed AD would also require the actions specified in the service information described previously, which would terminate the AFM limitations. This proposed AD also includes a provision that provides relief from the proposed requirements for airplanes with EICAS OPS versions other than Version 6.

Change to Existing AD

This proposed AD would retain the requirements of AD 2008-09-07. Since that AD was issued, the AD format has been revised, and certain paragraphs have been rearranged. As a result, the corresponding paragraph identifiers have changed in this proposed AD, as listed in the following table:

Revised Paragraph Identifiers
Requirement in AD 2008-09-07 | Corresponding requirement in this proposed AD
paragraph (f) | paragraph (g)
paragraph (g) | paragraph (h)

Costs of Compliance

We estimate that this proposed AD affects 1,078 airplanes of U.S. registry. We estimate the costs to comply with the following proposed requirements:

Estimated Costs
Action | Labor cost | Parts cost | Cost per product | Cost on U.S. operators
AFM revision (retained from AD 2008-09-07 | 1 work-hour × $85 per hour = $85 | $0 | $85 | $91,630
EICAS OPS installation (new proposed action) | 1 work-hour × $85 per hour = $85 | 0 | 85 | 91,630

We have no definitive data for the number of U.S.-registered airplanes subject to the proposed concurrent requirements in this proposed AD, but we provide the following estimated per-airplane costs to comply with the concurrent requirements.

Estimated Costs for Concurrent Actions
Action Service Bulletin | Service Bulletin | Labor cost | Parts cost | Cost per product
EICAS OPS installation | 757-31-0104, 757-31-0105 | 1-2 work-hours × $85 per hour = $85-$170 | Negligible | $85-$170
Wiring change | 767-23-0159 | 5 work-hours × $85 per hour = $425 | $501 | 926
AAU/handset replacement | 767-23-0160, 767-23-0167, 767-23-0164 | 1 work-hour × $85 per hour = $85 | Negligible | 85
EICAS computer replacement, wiring change, OPC installation | 767-31-0091, 767-31-0098, 767-31-0099, 767-31-0100, 767-31-0101 | 5-24 work-hours × $85 per hour = $425-$2,040 | Negligible | 425-2,040
EICAS OPS/OPC installation | 767-31-0114 | 1 work-hour × $85 per hour = $85 | Negligible | 85

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-09-07, Amendment 39-15488 (73 FR 21811, April 23, 2008), and adding the following new AD:

The Boeing Company: Docket No. FAA-2011-0382; Directorate Identifier 2010-NM-063-AD.

Comments Due Date

(a) The FAA must receive comments on this AD action by May 5, 2011.

Affected ADs

(b) This AD supersedes AD 2008-09-07, Amendment 39-15488.

Applicability

(c) This AD applies to all The Boeing Company 757-200, 757-200PF, 757-200CB, 757-300, 767-200, 767-300, and 767-300F series airplanes; certificated in any category.

Subject

(d) Joint Aircraft System Component (JASC)/Air Transport Association (ATA) of America Code 31, Instruments.

Unsafe Condition

(e) This AD was prompted by an error in the operating program software (OPS) of the engine indication and crew alerting system (EICAS). The error prevents the display of an advisory message to the flight crew of a left engine fuel filter contamination and imminent bypass condition, which may indicate an imminent multiple engine thrust loss or engine malfunction event due to fuel contamination. We are issuing this AD to prevent malfunction and thrust loss on both engines, which could result in a forced off-airport landing.

Compliance

(f) Comply with this AD within the compliance times specified, unless already done.

Restatement of Requirements of AD 2008-09-07, With No Changes

Revision of Airplane Flight Manual (AFM)

(g) Except as provided by paragraphs (h) and (i) of this AD: Within 30 days after May 8, 2008 (the effective date of AD 2008-09-07), revise the Limitations section of the applicable AFM to include the following. This may be done by inserting a copy of this AD into the AFM.

If the STATUS cue shows while on the ground after engine start or during flight, select the status page on the secondary EICAS display, and verify the “L ENG FUEL FILT” message is not shown. If the “L ENG FUEL FILT” message is not shown on the status page, the secondary engine parameters may be reselected on the secondary EICAS display, or the display may be blanked. If the “L ENG FUEL FILT” message is shown on the status display, accomplish the ENGINE FUEL FILTER non-normal checklist as published in the Boeing Quick Reference Handbook. If on the ground, check the Dispatch Deviations Guide (DDG), or operator equivalent.

In the event that the status level “L ENG FUEL FILT” and advisory level “R ENG FUEL FILT” messages are simultaneously shown, an impending fuel filter bypass condition exists on both engines. With both messages shown, airplane fuel system contamination may be present and may result in erratic engine operation or flameout.

Further flight crew action in response to either or both the “L ENG FUEL FILT” status-level message and the “R ENG FUEL FILT” advisory level messages being shown are not established by Boeing or the FAA. Any further flight crew action should be determined by individual operator policy.

Boeing policy on flight crew use of status-level messages has not changed. After engine start, any condition having an adverse effect on safe continuation of the flight appears as an EICAS alert message (Warning, Caution, or Advisory). If other status-level messages are shown as a consequence of complying with these temporary operating instructions, the flight crew should respond in accordance with the appropriate operator policy.

Dispatch of the airplane with an inoperative EICAS display unit is prohibited.

Exception to AFM Limitations Requirement

(h) If all affected airplanes in an operator's fleet have been verified by the operator to have EICAS computer part number S242N701-1001 and only EICAS OPS versions other than Version 6 software that are FAA approved for that airplane, then accomplishment of the actions specified in paragraph (g) of this AD is not required.

New Requirements of This AD

EICAS OPS Installation

(i) Except as provided by paragraph (k) of this AD: Within 90 days after the effective date of this AD, install EICAS OPS Version 7 in the left and right EICAS computers, in accordance with the applicable service information specified in paragraph (i)(1) or (i)(2) of this AD. Accomplishment of the applicable requirements of paragraphs (i) and (j) of this AD terminates the requirements of paragraph (g) of this AD, provided that those actions have been accomplished on all airplanes operated within an operator's fleet.

(1) For Model 757 airplanes: Use Boeing Special Attention Service Bulletin 757-31-0192, dated September 11, 2009.

(2) For Model 767-200, -300, and -300F series airplanes: Use Boeing Special Attention Service Bulletin 767-31-0267, dated September 11, 2009.

Concurrent Requirements

(j) For airplanes subject to the requirements of paragraph (i) of this AD: Before or concurrently with accomplishment of the requirements of paragraph (i) of this AD, do the applicable actions specified in paragraphs (j)(1) through (j)(12) of this AD.

(1) For Model 757-200, 757-200CB, 757-200PF series airplanes, as identified in Boeing Service Bulletin 757-31-0104, dated December 5, 2002: Install EICAS OPS Version 5, in accordance with Boeing Service Bulletin 757-31-0104, dated December 5, 2002.

(2) For Model 757-300 series airplanes, as identified in Boeing Service Bulletin 757-31-0105, dated December 5, 2002: Install EICAS OPS Version 5, in accordance with Boeing Service Bulletin 757-31-0105, dated December 5, 2002.

(3) For Model 767-200 and -300 airplanes, as identified in Boeing Service Bulletin 767-23-0159, Revision 2, dated January 11, 2007: Change wires from the audio accessory unit (AAU) on the E2-5 shelf to the bell chime module in the warning electronics unit (WEU) (P51), in accordance with Boeing Service Bulletin 767-23-0159, Revision 2, dated January 11, 2007.

(4) For Model 767-300 series airplanes, as identified in Boeing Special Attention Service Bulletin 767-23-0160, dated May 31, 2001: Replace the AAU with a new or serviceable unit, in accordance with Boeing Special Attention Service Bulletin 767-23-0160, dated May 31, 2001.

(5) For Model 767-300 series airplanes, as identified in Boeing Service Bulletin 767-23-0167, dated February 28, 2002: Replace the AAU with a new or serviceable unit, in accordance with Boeing Service Bulletin 767-23-0167, dated February 28, 2002.

(6) For Model 767-200 and 767-300 series airplanes, as identified in Boeing Service Bulletin 767-23-0164, dated May 31, 2001: Replace the pilots' handset on the P8 panel, replace 5 attendant handsets, and replace the AAU on the E2-5 shelf in the main equipment center, as applicable; in accordance with Boeing Service Bulletin 767-23-0164, dated May 31, 2001.

(7) For Model 767-200, 767-300, and 767-300F series airplanes, as identified in Boeing Service Bulletin 767-31-0091, Revision 4, dated July 7, 2005: Replace the left and right EICAS computers in the E8 rack, make wire changes in the E8 shelf, change the left and right EICAS computer connector keying on the E8 shelf, load OPC software into both left and right EICAS computers; in accordance with Boeing Service Bulletin 767-31-0091, Revision 4, dated July 7, 2005. These actions are also required by AD 2004-10-05.

(8) For Model 767-200 and 767-300 series airplanes, as identified in Boeing Service Bulletin 767-31-0098, Revision 2, dated October 21, 1999: Replace the left and right EICAS computers in the E8 rack, make wire changes in the E8 shelf, change the left and right EICAS computer connector keying on the E8 shelf, load OPC software into both left and right EICAS computers; in accordance with Boeing Service Bulletin 767-31-0098, Revision 2, dated October 21, 1999. These actions are also required by AD 2004-10-05.

(9) For Model 767-300 series airplanes, as identified in Boeing Service Bulletin 767-31-0099, Revision 3, dated February 8, 2001: Replace the left and right EICAS computers in the E8 rack, make wire changes in the E8 shelf, change the left and right EICAS computer connector keying on the E8 shelf, load OPC software into both left and right EICAS computers; in accordance with Boeing Service Bulletin 767-31-0099, Revision 3, dated February 8, 2001. These actions are also required by AD 2004-10-05.

(10) For Model 767-200 and 767-300 series airplanes, as identified in Boeing Service Bulletin 767-31-0100, Revision 2, dated July 29, 1999: Replace the left and right EICAS computers in the E8 rack, make wire changes in the E8 shelf, change the left and right EICAS computer connector keying on the E8 shelf, load OPC software into both left and right EICAS computers; in accordance with Boeing Service Bulletin 767-31-0100, Revision 2, dated July 29, 1999. These actions are also required by AD 2004-10-05.

(11) For Model 767-200 and 767-300 series airplanes, as identified in Boeing Service Bulletin 767-31-0101, dated July 6, 2000: Replace the left and right EICAS computers in the E8 rack, make wire changes in the E8 shelf, change the left and right EICAS computer connector keying on the E8 shelf, load OPC software into both left and right EICAS computers; in accordance with Boeing Service Bulletin 767-31-0101, dated July 6, 2000. These actions are also required by AD 2004-10-05.

(12) For Model 767-200, 767-300, and 767-300F series airplanes, as identified in Boeing Service Bulletin 767-31-0114, Revision 1, dated June 8, 2000: Install EICAS OPS Version 2 and EICAS OPC software, as applicable, in accordance with Boeing Service Bulletin 767-31-0114, Revision 1, dated June 8, 2000.

Exception to OPS Installation Requirement

(k) For any airplane verified by the operator to have EICAS computer part number S242N701-1001 and only EICAS OPS versions other than Version 6 software that are FAA approved for that airplane, the actions specified in paragraphs (i) and (j) of this AD are not required.

Parts Installation

(l) As of the effective date of this AD, no person may install EICAS OPS Version 6 software on any airplane.

Credit for Actions Accomplished in Accordance With Previous Service Information

(m) Accomplishment before the effective date of this AD of the actions specified in a service bulletin identified in table 1 of this AD is acceptable for compliance with the applicable requirements of paragraph (j) of this AD, except as noted.

Table 1—Credit Service Bulletins
Boeing Service Bulletin | Revision | Date | Airplanes excluded from compliance approval
767-23-0159 | 1 | December 5, 2002 | No exceptions.
767-31-0091 | 1 | February 4, 1999 | Acceptable except for airplanes VN634, VN635, VH171, VN172, VF251, and VN198.
767-31-0091 | 2 | February 24, 2000 | Acceptable except for airplane VN198.
767-31-0091 | 3 | April 27, 2000 | No exceptions.
767-31-0098 | Original | August 27, 1998 | Acceptable except for airplanes VB051 through VB054, VN307 through VN314, VN676, and VK046 through VK054.
767-31-0098 | 1 | February 4, 1999 | Acceptable except for airplanes VB051 through VB054, VN307 through VN314, VN676, and VK046 through VK054.
767-31-0099 | Original | August 6, 1998 | Acceptable only for airplanes VL871 through VL873.
767-31-0099 | 1 | February 4, 1999 | Acceptable only for airplanes VL871 through VL873.
767-31-0099 | 2 | June 17, 1999 | Acceptable only for airplanes VL871 through VL873.
767-31-0100 | Original | August 20, 1998 | No exceptions.
767-31-0100 | 1 | February 4, 1999 | No exceptions.
767-31-0114 | Original | March 18, 1999 | Acceptable except for airplanes VL891 through VL910, VR201 through VR206, and VW701 through VW721.

Alternative Methods of Compliance (AMOCs)

(n)(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be e-mailed to 9-ANM-Seattle-ACO-AMOC-Requests@faa.gov.

(2) Before using any approved AMOC, notify your appropriate principal inspector, or lacking a principal inspector, the manager of the local flight standards district office/certificate holding district office.

Related Information

(o) For more information about this AD, contact Christopher Shams, Aerospace Engineer, Propulsion Branch, ANM-140S, FAA, Seattle Aircraft Certification Office (ACO), 1601 Lind Avenue, SW., Renton, Washington 98057-3356; telephone 425-917-6753; fax 425-917-6590; e-mail christopher.shams@faa.gov.

(p) For service information identified in this AD, contact Boeing Commercial Airplanes, Attention: Data & Services Management, P.O. Box 3707, MC 2H-65, Seattle, Washington 98124-2207; telephone 206-544-5000, extension 1; fax 206-766-5680; e-mail me.boecom;@boeing.com; Internet https://www.myboeingfleet.com. You may review copies of the referenced service information at the FAA, Transport Airplane Directorate, 1601 Lind Avenue, SW., Renton, Washington. For information on the availability of this material at the FAA, call 425-227-1221.

Issued in Renton, Washington, on April 13, 2011.
Ali Bahrami,
Manager, Transport Airplane Directorate, Aircraft Certification Service.

[FR Doc. 2011-9524 Filed 4-19-11; 8:45 am]

BILLING CODE 4910-13-P